DEPARTMENT OF COMMERCE

National Oceanic and Atmospheric Administration

RIN 0648-XD690

New England Fishery Management Council; Public Meeting

AGENCY: National Marine Fisheries Service (NMFS), National Oceanic and Atmospheric Administration (NOAA), Commerce.

ACTION: Notice; public meeting.

SUMMARY: The New England Fishery Management Council's (Council) Observer Policy Committee will meet to review scientific information affecting New England fisheries in the exclusive economic zone (EEZ).

DATES: The meeting will be held on Thursday, January 22, 2015 beginning at 9:30 a.m.

ADDRESSES: The meeting will be held at the DoubleTree Hotel Boston North Shore, 50 Ferncroft Road, Danvers, MA 01923; telephone: (978) 777-2500; fax: (978) 750-7991.

Council Address: New England Fishery Management Council, 50 Water Street, Mill 2, Newburyport, MA 01950.

FOR FURTHER INFORMATION CONTACT: Thomas A. Nies, Executive Director, New England Fishery Management Council; telephone: (978) 465-0492.

SUPPLEMENTARY INFORMATION: Agenda items:

The Observer Policy Committee will meet to: Review draft Environmental Assessment for NMFS-led omnibus amendment to establish provisions for industry-funded monitoring (IFM) across all Council-managed fisheries; discuss details of the omnibus IFM amendment alternatives, review available information and analyses, and discuss Herring Committee recommendations regarding the options in the IFM amendment that address observer coverage on Atlantic herring vessels; develop Observer Committee recommendations regarding the selection of Preferred Alternatives for the omnibus IFM amendment and address other business as necessary.

Special Accommodations

This meeting is physically accessible to people with disabilities. Requests for sign language interpretation or other auxiliary aids should be directed to Thomas A. Nies (see ADDRESSES) at least 5 days prior to the meeting date.

Authority: 16 U.S.C. 1801 et seq.

Dated: December 31, 2014.
Tracey L. Thompson,
Acting Deputy Director, Office of Sustainable Fisheries, National Marine Fisheries Service.

[FR Doc. 2014-30933 Filed 1-5-15; 8:45 am]

BILLING CODE 3510-22-P